DEPARTMENT OF JUSTICE

[CPCLO Order No. 004-2009]

Privacy Act of 1974; System of Records

AGENCY: United States Department of Justice.

ACTION: Notice of a new system of records and notice to remove a system of records.

SUMMARY: Pursuant to the Privacy Act of 1974 (5 U.S.C. 552a), the United States Department of Justice (“Department”), proposes to establish a new system of records to maintain employee directory information entitled, “Employee Directory Systems for the Department of Justice,” JUSTICE/DOJ-014. The Department maintains employee directory information in order to facilitate employee collaboration and assist in professional contacts to benefit the Department's business practices. This system covers employee directory information located on the Department's internal e-mail system as well as directories maintained by components. This system notice also replaces, and the Department hereby removes, the following system notice, previously published by the Environment and Natural Resources Division: “Personnel Locator System, Environment and Natural Resources Division (ENRD-002),” 73 FR 39,722 (July 10, 2008).

DATES: In accordance with 5 U.S.C. 552a(e)(4) and (11), the public is given a 30-day period in which to comment, and the Office of Management and Budget (OMB), which has oversight responsibility under the Act, requires a 40-day period in which to conclude its review of the system. Therefore, please submit any comments by December 14, 2009.

ADDRESSES: The public, OMB, and Congress are invited to submit any comments to the Department of Justice, Attn: Robin N. Moss, Privacy Analyst, Office of Privacy and Civil Liberties, Department of Justice, National Place Building, 1331 Pennsylvania Avenue, NW., Suite 940, Washington, DC 20530.

FOR FURTHER INFORMATION CONTACT: Robin N. Moss, Privacy Analyst, Office of Privacy and Civil Liberties, Department of Justice, National Place Building, 1331 Pennsylvania Avenue, NW., Suite 940, Washington, DC 20530.

In accordance with 5 U.S.C. 552a(r), the Department has provided a report to OMB and Congress on the new system of records.

Dated: October 29, 2009.
Nancy C. Libin,
Chief Privacy and Civil Liberties Officer, Department of Justice.

DEPARTMENT OF JUSTICE

JUSTICE/DOJ-014

SYSTEM NAME:

Employee Directory Systems for the Department of Justice

SECURITY CLASSIFICATION:

Sensitive But Unclassified Information and/or Controlled Unclassified Information

SYSTEM LOCATION:

United States Department of Justice, 950 Pennsylvania Ave., NW., Washington, DC 20530-0001, and other Department of Justice offices throughout the United States and abroad.

CATEGORIES OF INDIVIDUALS COVERED BY THE SYSTEM:

Employees, former employees, detailees, student aides, law clerks, volunteers, contractors, and other personnel employed by or otherwise affiliated with the Department.

CATEGORIES OF RECORDS IN THE SYSTEM:

Records maintained on the internal Departmental email directory system may include name, position title, office location, office telephone and facsimile numbers, office address, and electronic mail (e-mail) address.

Records maintained by component directory systems may include name, position title, office location, office telephone and facsimile numbers, office address, electronic mail (e-mail) address, as well as certain limited voluntarily submitted information including photographs and professional background records (such as law school name and year of graduation, clerkships, bar memberships, advanced degrees earned, foreign language expertise, and notary public commission). In addition, some directories may include certain information to which access is restricted to users depending on the roles and responsibilities within the system. Specifically, some directories may include information collected for a specific statutory or management purpose and may include limited relevant professional background information. Some component directories may also include emergency contact information, which may be used to contact the individual named, or his/her authorized designee, in the event of an emergency during or outside of official duty hours. Emergency contact information maintained in component directories may include home addresses and telephone numbers; cellular telephone numbers; pager numbers; other alternate telephone numbers where individuals or their designees may be reached while away on travel, assigned work detail, or other extended absence from the office; email addresses; names, telephone numbers and email addresses of family members or other emergency contacts; and other contact information individuals may wish to provide. [Note: The Department has provided notice for emergency contact information not maintained in component employee directories in Department of Justice -009 “Emergency Contact Systems for the Department of Justice,” 69 FR 1762 (Jan. 12, 2004).]

AUTHORITY FOR MAINTENANCE OF THE SYSTEM:

Authority to establish and maintain this system is contained in 5 U.S.C. 301 and 44 U.S.C. 3101, which authorize the Attorney General to create and maintain federal records of agency activities, as well as other specific statutory authorities that authorize the maintenance of records by the Department of Justice.

PURPOSE(S):

To allow Department personnel to collaborate within each individual component and within the Department and to facilitate professional contacts in order to perform their duties and to benefit the Department's business practices.

ROUTINE USES OF RECORDS MAINTAINED IN THE SYSTEM, INCLUDING CATEGORIES OF USERS AND THE PURPOSES OF SUCH USES:

(a) To a Member of Congress or staff acting upon the Member's behalf when the Member or staff requests the information on behalf of, and at the request of, the individual who is the subject of the record.

(b) To contractors, grantees, experts, consultants, students, and others performing or working on a contract, service, grant, cooperative agreement, or other assignment for the Federal Government, when necessary to accomplish an agency function related to this system of records.

(c) To the National Archives and Records Administration in connection with records retention and disposition issues and for purposes of records management inspections conducted under the authority of 44 U.S.C. 2904 and 2906.

(d) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(e) Where a record, either alone or in conjunction with other information, indicates a violation or potential violation of law—criminal, civil, or regulatory in nature—the relevant records may be referred to the appropriate federal, state, local, territorial, tribal, or foreign law enforcement authority, or other appropriate entity charged with the responsibility for investigating or prosecuting such violation or charged with enforcing or implementing such law.

(f) To appropriate agencies, entities, and persons when: (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(g) To appropriate officials and employees of a federal agency or entity when the information is relevant to a decision concerning the hiring, appointment, or retention of an employee; the assignment, detail, or deployment of an employee; the issuance, renewal, suspension, or revocation of a security clearance; the execution of a security or suitability investigation; the letting of a contract; or the issuance of a grant or benefit.

(h) In an appropriate proceeding before a court, grand jury, or administrative or adjudicative body, when the Department of Justice determines that the records are arguably relevant to the proceeding; or in an appropriate proceeding before an administrative or adjudicative body when the adjudicator determines the records to be relevant to the proceeding.

(i) To an actual or potential party to litigation or the party's authorized representative for the purpose of negotiation or discussion of such matters as settlement, plea bargaining, or in informal discovery proceedings.

(j) To such recipients and under such circumstances and procedures as are mandated by federal statute or treaty.

(k) To the news media and the public, including disclosures pursuant to 28 CFR § 50.2, unless it is determined that release of the specific information in the context of a particular case would constitute an unwarranted invasion of personal privacy.

DISCLOSURE TO CONSUMER REPORTING AGENCIES:

None.

POLICIES AND PRACTICES FOR STORING, RETRIEVING, ACCESSING, RETAINING, AND DISPOSING OF RECORDS IN THE SYSTEM:

STORAGE:

Records in this system are stored on paper and/or in electronic form. Records are stored in accordance with applicable executive orders, statutes, and agency implementing recommendations.

RETRIEVABILITY:

Information is retrieved by the individual's name, and in some instances, email addresses.

SAFEGUARDS:

Information in this system is safeguarded in accordance with appropriate laws, rules, and policies, including the Department's automated systems security and access policies, and access to such information is limited to Department personnel, contractors, and other affiliated personnel who have an official need for access in order to perform their duties. Access to electronic employee directory systems is restricted to Department personnel, contractors and other affiliated persons with accounts on the Department's computer network because it is accessed via the Department's intranet or the specific component's intranet. Additionally, access to certain information in directories maintained by components is restricted to certain users depending on their roles and responsibilities within that system. For example, access to emergency contact information that is maintained in some component's directories is strictly limited to managers and personnel with a need to know in order to contact a designee in the event of an emergency.

RETENTION AND DISPOSAL:

Records are retained during their useful life in accordance with records retention schedules approved by the National Archives and Records Administration.

SYSTEM MANAGER(S) AND ADDRESS:

Director, Office of Privacy and Civil Liberties, Department of Justice, National Place Building, 1331 Pennsylvania Avenue, NW., Suite 940, Washington, DC 20530.

NOTIFICATION PROCEDURE:

Same as record access procedures.

RECORD ACCESS PROCEDURES:

Access to employee directory systems is restricted to Department employees, contractors, and other affiliated persons with accounts on the Department's computer network because it is accessed via the Department's intranet or the specific component's intranet. Additionally, access to certain information in component directories is restricted to users depending on their roles and responsibilities within that system. For example, access to the emergency contact information included in some component directories is restricted to those managers and personnel who need to know the information in order to contact a designee in the event of an emergency.

For access to Departmental e-mail system information, individuals may directly access information through the Department's internal e-mail system.

For certain component employee directory systems, individuals may directly or through a system administrator, post, verify, correct, and/or remove information in their individual employee profiles.

All other requests for access may be made by writing to the System Manager named above. The envelope and letter should be clearly marked “Privacy Act Request.” The request should include a general description of the records sought and must include the requester's full name, current address, and place and date of birth. The request must be signed and either notarized or submitted under penalty of perjury. A determination of whether a record may be accessed will be made after a request is received.

Although no specific form is required, you may obtain forms for this purpose from the FOIA/PA Mail Referral Unit, Justice Management Division, United States Department of Justice, 950 Pennsylvania Avenue, NW., Washington, DC 20530-0001, or on the Department of Justice Web site at http://www.usdoj.gov/04foia/att_d.htm.

CONTESTING RECORD PROCEDURES:

For information maintained in the internal Departmental e-mail system, individuals may contact a system administrator to inquire about updating, correcting, and/or removing information.

For certain component employee directory systems, individual employees may directly or through a system administrator, post, verify, correct, and/or remove information in their individual employee profiles.

Individuals may also contest or amend information maintained in the system by directing their requests to the appropriate component system administrator or the System Manager named above, stating clearly and concisely what information is being contested, the reasons for contesting it, and the proposed amendment to the information sought. A determination of whether a record may be contested or amended will be made after a request is received.

RECORD SOURCE CATEGORIES:

Sources of information contained in this system are from existing Department and/or component employee directory information, as well as employees, student aides, law clerks, and volunteers, contractors, and other associated personnel who provide such information.

EXEMPTIONS CLAIMED FOR THE SYSTEM:

None.

[FR Doc. E9-26526 Filed 11-3-09; 8:45 am]

BILLING CODE 4410-FB-P